DEPARTMENT OF THE INTERIOR

Fish and Wildlife Service

Recovery Plan for Chorizanthe robusta var. robusta (Robust Spineflower)

AGENCY: U.S. Fish and Wildlife Service, Interior.

ACTION: Notice of document availability.

SUMMARY: The U.S. Fish and Wildlife Service (“we”) announces the availability of the Recovery Plan for Chorizanthe robusta var. robusta (Robust Spineflower). This plant taxon is found along the central coast of California, primarily in Santa Cruz and Marin Counties. Historically, this plant also occurred in San Francisco, Alameda, Santa Clara, San Mateo, and Monterey Counties, California.

ADDRESSES: Copies of this recovery plan are available by request from the U.S. Fish and Wildlife Service, Ventura Fish and Wildlife Office, 2493 Portola Road, Suite B, Ventura, California 93003 (telephone: 805-644-1766). An electronic copy of the recovery plan is also available at: http://endangered.fws.gov/recovery/index.html#plans.

FOR FURTHER INFORMATION CONTACT: Connie Rutherford, Botanist, at the above Ventura address.

SUPPLEMENTARY INFORMATION:

Background

Restoring endangered or threatened animals and plants to the point where they are again secure, self-sustaining members of their ecosystems is a primary goal of our endangered species program. To help guide the recovery effort, we are working to prepare recovery plans for most of the listed species native to the United States. Recovery plans describe actions considered necessary for the conservation of the species, establish criteria for the recovery levels for downlisting or delisting them, and estimate time and cost for implementing the recovery measures needed.

The Endangered Species Act (Act) requires the development of recovery plans for listed species unless such a plan would not promote the conservation of a particular species. Section 4(f) of the Act requires that public notice and an opportunity for public review and comment be provided during recovery plan development. The Draft Recovery Plan for Chorizanthe robusta var. robusta was available for public comment from September 19, 2000, through November 20, 2000 (65 FR 56590). Information presented during the public comment period has been considered in the preparation of this final recovery plan, and is summarized in Appendix C of the recovery plan. We will forward substantive comments regarding recovery plan implementation to appropriate Federal or other entities so they can take these comments into account in the course of implementing recovery actions.

Chorizanthe robusta var. robusta was listed as endangered in 1994, and 190 hectares (469 acres) of critical habitat were designated in 2002. Chorizanthe robusta var. robusta is restricted to sandy soils along the coast and near-coastal areas in Santa Cruz County, and from the Point Reyes National Seashore in Marin County, California.

Chorizanthe robusta var. robusta is threatened by urban development, recreational activities, and competition with non-native vegetation. In addition, some of the populations contain very low numbers of individuals, which put them at great risk of extinction due to random naturally occurring (stochastic) events.

The objective of this plan is to provide a framework for the recovery of Chorizanthe robusta var. robusta so that protection by the Act is no longer necessary. Actions necessary to accomplish this objective include: (1) Protect existing habitat; (2) manage existing habitat through implementation plans; (3) conduct research on the taxonomy, ecology, biology, and management of Chorizanthe robusta var. robusta; (4) establish new populations within the historical range of the species; (5) review and revise recovery guidelines; and (6) develop and implement an outreach program to provide information to the public.

Authority: The authority for this action is section 4(f) of the Endangered Species Act, 16 U.S.C. 1533(f).

Dated: August 23, 2004.
Steve Thompson,
Manager, California/Nevada Operations Office, U.S. Fish and Wildlife Service.

[FR Doc. 04-27811 Filed 12-17-04; 8:45 am]

BILLING CODE 4310-55-P